TENNESSEE VALLEY AUTHORITY

Environmental Assessment or Environmental Impact Statement—Proposed Commercial Recreational and Residential Developments on Tellico Reservoir, Loudon County, TN

AGENCY: Tennessee Valley Authority (TVA).

ACTION: Extension of public comment period for scoping.

SUMMARY: This notice is provided in accordance with the Council on Environmental Quality's regulations (40 CFR parts 1500 to 1508), Section 106 of the National Historic Preservation Act and its implementing regulations (36 CFR part 800), and TVA's procedures implementing the National Environmental Policy Act (NEPA). On June 17, 2002, TVA published a Notice of Intent to prepare an Environmental Assessment or Environmental Impact Statement for the recreational and residential developments proposed on Tellico Reservoir, Loudon County, Tennessee (Federal Register, Volume 67, Number 116, Pages 41292-41293). The comment period for the scoping phase of this environmental review is extended from July 26, 2002 to August 16, 2002.

ADDRESSES: Written comments should be sent to Jon M. Loney, Manager, NEPA Administration, Environmental Policy and Planning, Tennessee Valley Authority, 400 West Summit Hill Drive, Knoxville, Tennessee 37902-1499.

FOR FURTHER INFORMATION CONTACT: Richard L. Toennisson, NEPA Specialist, Environmental Policy and Planning, Tennessee Valley Authority, 400 West Summit Hill Drive, WT 8C, Knoxville, Tennessee 37902-1499; telephone: (865) 632-8517; or e-mail: rltoennisson@tva.gov.

Dated: July 12, 2002.
Kathryn J. Jackson,
Executive Vice President, River System Operations and Environment.

[FR Doc. 02-78232 Filed 7-18-02; 8:45 am]

BILLING CODE 8120-08-M